DEPARTMENT OF ENERGY

Federal Energy Regulatory Commission

[Docket No. EC05-78-000, et al.]

Duquesne Power, L.P., et al.; Electric Rate and Corporate Filings

May 16, 2005.

The following filings have been made with the Commission. The filings are listed in ascending order within each docket classification.

1. Duquesne Power, L.P.

[Docket No. EC05-78-000]

Take notice that on May 10, 2005, Duquesne Power, L.P. (Duquesne Power) and Duquesne Light Company (DLC) submitted an application pursuant to section 203 of the Federal Power Act for authorization to complete an internal reorganization whereby Duquesne Power, which currently is an indirect wholly-owned subsidiary of DLC, will become a wholly-owned subsidiary of DQE Financial Corp. Duquesne Power states that the jurisdictional facility owned by Duquesne Power and indirectly included in this reorganization is Duquesne Power's Market-based Rate Tariff.

Duquesne Power states that a copy of the application was served on the Pennsylvania Public Utility Commission.

Comment Date: 5 p.m. eastern time on May 31, 2005.

2. Cinergy Services, Inc. on Behalf of PSI Energy, Inc. and the Cinncinnati Gas & Electric Company Cinergy Services, Inc., on Behalf of Allegheny Energy Supply Wheatland Generating Facility, LLC

[Docket No. EC05-79-000]

Take notice that on May 10, 2005, Allegheny Energy Supply Wheatland Generating Facility, LLC (Wheatland LLC), and Cinergy Services, Inc., on behalf of its franchised public utility affiliates, PSI Energy, Inc. and The Cincinnati Gas & Electric Company (Cinergy) (collectively, Applicants), tendered for filing an application requesting all necessary authorizations under section 203 of the Federal Power Act, 16 U.S.C. 824b (2000), for Wheatland LLC to transfer the 508 MW Wheatland Generating Facility located in Wheatland, Indiana, by sale from Wheatland LLC to Cinergy. Applicants have requested confidential treatment of the documents submitted in Exhibit I of the Application.

Applicants state that copies of this filing have been served on the Indiana Utility Regulatory Commission and the City of Piqua.

Comment Date: 5 p.m. eastern time on June 9, 2005.

3. TXU Pedricktown Cogeneration Company LP and Pedricktown Plant Holdings, LLC; TXU Pedricktown Cogeneration Company LP

[Docket No. EC05-80-000 and ER03-256-005]

Take notice that on May 11, 2005, TXU Pedricktown Cogeneration Company LP (TXU Pedricktown) and Pedricktown Plant Holdings, LLC (PPH) (together, Applicants) submitted an application pursuant to section 203 of the Federal Power Act for authorization for the disposition of jurisdictional facilities related to the transfer of 100 percent of the upstream ownership interests in TXU Pedricktown to PPH. Applicants state that TXU Pedricktown is an exempt wholesale generator under section 32 of the Public Utility Holding Company Act of 1935, that owns and operates a 122 MW cogeneration facility located in Pedricktown, New Jersey. Applicants have requested confidential treatment of Exhibit I to the Application. In addition, TXU Pedricktown has submitted a notice of change in status in Docket No. ER03-256.

Applicants state that copies of the filing were served upon all persons listed on the official service list in Docket No. ER03-256.

Comment Date: 5 p.m. eastern time on June 1, 2005.

4. Brownsville Power I, L.L.C.; Caledonia Power I, L.L.C.; CinCap IV, LLC; CinCap V, LLC; Cinergy Capital & Trading, Inc.; the Cincinnati Gas & Electric Co.; Cinergy Power Investments, Inc.; PSI Energy, Inc.; St. Paul Cogeneration, LLC

[Docket Nos. ER00-826-002; ER00-828-002; ER98-421-013, ER98-4055-010, ER01-1337-005, ER96-2504-010; ER02-177-006; ER96-2506-008; ER03-1212-004]

Take notice that on May 10, 2005, Brownsville Power I, LLC, Caledonia Power I, L.L.C. CinCap IV, LLC, CinCap V, LLC, Cinergy Capital & Trading, Inc., The Cincinnati Gas & Electric Co. (CG&E), Cinergy Power Investments, Inc., St. Paul Cogeneration, LLC, and PSI Energy, Inc. (PSI), each of which are direct or indirect subsidiaries of Cinergy Corporation (Cinergy) (collectively, the Cinergy Entities), tendered for filing a notice of change in status.

Comment Date: 5 p.m. eastern time on May 31, 2005.

5. Reserved

6. Choctaw Generation Limited Partnership

[Docket No. ER98-3774-003]

Take notice that on May 10, 2005, Choctaw Generation Limited Partnership, (Choctaw) submitted a notification of change in status.

Comment Date: 5 p.m. eastern time on May 31, 2005.

7. Phelps Dodge Energy Services, LLC

[Docket No. ER99-2923-002]

Take notice that on May 10, 2005, Phelps Dodge Energy Services, LLC (PDES) submitted for filing its triennial market power update and its revised market-based tariff reflecting the incorporation of the Reporting Requirement adopted in Order No. 652, Reporting Requirement for Changes in Status for Public Utilities with Market-Based Rate Authority, 110 FERC ¶ 61,097 (2005). PDES also submitted a notification of change in status.

Comment Date: 5 p.m. eastern time on May 31, 2005.

8. Trigen-Syracuse Energy Corporation

[Docket No. ER00-2603-003]

Take notice that on May 10, 2005, Trigen-Syracuse Energy Corporation, (Syracuse) submitted a notification of change in status.

Comment Date: 5 p.m. eastern time on May 31, 2005.

9. New Mexico Electric Marketing, LLC

[Docket No. ER02-77-004]

Take notice that on May 11, 2005, New Mexico Electric Marketing, LLC, (NewMex) submitted for filing substitute pages to its Rate Schedule FERC No. 1 filed on December 10, 2004 in Docket No. ER02-77-002 and amended on March 9, 2005 in Docket No. ER02-77-003.

Comment Date: 5 p.m. eastern time on May 23, 2005.

10. PJM Interconnection, L.L.C.

[Docket Nos. ER05-605-001 and EL05-90-001]

Take notice that, on May 4, 2005, PJM Interconnection, L.L.C. (PJM) submitted a substitute interconnection service agreement and a substitute construction service agreement in compliance with the Commission's order issued April 19, 2005, in PJM Interconnection, L.L.C., 111 FERC ¶ 61,098 (2005).

PJM states that copies of the filing were served on parties on the official service list in the above-captioned proceedings.

Comment Date: 5 p.m. eastern time on May 25, 2005.

11. Spring Canyon Energy LLC

[Docket No. ER05-717-001]

Take notice that on May 13, 2005, Spring Canyon Energy LLC, (Spring Canyon) submitted an amendment to it March 21, 2005 filing in Docket No. ER05-717-000 an application for market-based rate authorization and its proposed market-based rate taiff.

Comment Date: 5 p.m. eastern time on May 20, 2005.

12. Judith Gap Energy LLC

[Docket No. ER05-721-001]

Take notice that on May 13, 2005, Judith Gap Energy LLC (Judith Gap) filed an amendment to its March 21, 2005 filing in Docket No. ER05-721-000 an application for market-based rate authorization and its proposed market-based rate tariff.

Comment Date: 5 p.m. eastern time on May 20, 2005.

13. Western Systems Power Pool, Inc.

[Docket No. ER05-952-000]

Take notice that on May 10, 2005, the Western Systems Power Pool, Inc. (WSPP) submitted an amendment to the WSPP Agreement to include the City of Corona Department of Water and Power (Corona), DB Energy Trading LLC (DBET) and the City of Rancho Cucamonga (Rancho Cucamonga) as members of WSPP. The WSPP requests an effective date of March 9, 2005.

WSPP states that copies of WSPP's filing were served upon Corona, DBET and Rancho Cucamonga. In addition, WSPP states that copies of the filing were e-mailed to WSPP members who have supplied e-mail addresses for the Contract Committee and Contacts lists. This filing also has been posted on the WSPP homepage (http://www.wspp.org).

Comment Date: 5 p.m. eastern time on May 31, 2005.

14. Phelps Dodge Power Marketing, LLC

[Docket No. ER05-953-000]

Take notice that on May 10, 2005, Phelps Dodge Power Marketing, LLC submitted for filing, pursuant to section 205 of the Federal Power Act and Part 35 of the Commission's regulations an application for market-based rate authorization to sell energy, capacity, reassign transmission capacity and resell firm transmission rights. PDPM requests a waiver of the code of conduct and affiliate restrictions. PDPM also requests that the Commission grant the waivers and exemptions from regulations typically granted to the holders of market-based rate authorization.

Comment Date: 5 p.m. eastern time on May 31, 2005.

15. USGen New England, Inc.

[Docket No. ER05-954-000]

Take notice that on May 10, 2005, USGen New England, Inc. (USGenNE) submitted a Notice of Cancellation of its FERC Electric Tariff, Original Volume No. 1—Market-Based Rate Schedule originally accepted for filing in Docket No. ER98-6-000. USGenNE requests an effective date of April 2, 2005.

USGenNE states that the Notice of the proposed cancellation has not been served on any party because USGen New England, Inc. is not currently engaged in any sales of electric power or entered into any power or related contracts with any purchasers.

Comment Date: 5 p.m. eastern time on May 31, 2005.

16. Midwest Independent Transmission System Operator, Inc.

[Docket No. ER05-955-000]

Take notice that on May 11, 2005, the Midwest Independent Transmission System Operator, Inc. (Midwest ISO) submitted an interconnection and operating agreement among the City of Dike, Iowa, the Midwest ISO and Interstate Power and Light Company, a wholly-owned subsidiary of Alliant Energy. Midwest ISO requests an effective date of April 13, 2005.

Midwest ISO states that a copy of this filing was served on the City of Dike, Iowa and Interstate Power and Light Company.

Comment Date: 5 p.m. eastern time on June 1, 2005.

17. Encogen Northwest, L.P.

[Docket No. ER05-956-000]

Take notice that on May 11, 2005, Encogen Northwest, L.P. (Encogen) filed a notice of cancellation of its FERC Electric Tariff, Original Volume No. 1, originally accepted in Docket No. ER05-421-000. Encogen requests an effective date of May 6, 2005.

Comment Date: 5 p.m. eastern time on June 1, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-2594 Filed 5-23-05; 8:45 am]

BILLING CODE 6717-01-P